NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by March 11, 2013. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application: 2013-028

1. Applicant: John H. Postlethwait, Institute of Neuroscience, 1254 University of Oregon, Eugene, OR 97403.

Activity for Which Permit Is Requested

Enter Antarctic Specially Protected Areas. The applicant intends to enter ASPA 152-Western Bransfield Strait, and ASPA 153-Eastern Dallmann Bay to capture Antarctic fish by trawling and trapping. The project will study the evolution of secondary pelagicism in Antarctic fishes by reduction of bone mineral density. Fish will be caught and taken to the Palmer Station laboratory for further study, then released live back into the Southern Ocean. Trawling and trapping are complementary fishing techniques. Trawling is time-efficient means to collect the icefish Chaenocephaus aceratus and the rockcod Notothenia coriiceps, but is limited to smooth bottoms. Trapping, on the other hand, can be performed irrespective of bottom type, which enhances the ability to capture the odorant-sensing N. coriiceps.

Location

Antarctic Peninsula including ASPA 152-Western Bransfield Strait, and ASPA 153-Eastern Dallmann Bay.

Dates

March 10, 2013 to June 27, 2013.

Nadene G. Kennedy,
Permit Officer, Office of Polar Programs.

[FR Doc. 2013-02690 Filed 2-6-13; 8:45 am]

BILLING CODE 7555-01-P